DEPARTMENT OF THE TREASURY

Treasury Inspector General for Tax Administration

Proposed Collection: Confirmation Letter 002 (Lien)

AGENCY: Treasury Inspector General for Tax Administration (TIGTA), Office of Audit.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506 (c) (2) (A)). Currently TIGTA is soliciting comments concerning Confirmation Letter 002 (Lien).

DATES: Written comments should be received by June 12, 2000 to be assured of consideration.

ADDRESSES: Direct all written comments to Roger K. Layman, Treasury Inspector General for Tax Administration, Room 6109, 1111 Constitution Avenue, NW, Washington DC. 20224, Fax (202) 622-5089, Internet Roger.Layman@tigta.treas.gov

FOR FURTHER INFORMATION CONTACT: Requests for additional information or copies of the information collection should be directed to Roger K. Layman, (202) 622-5969, Treasury Inspector General for Tax Administration, Room 6109, 1111 Constitution Avenue, NW, Washington DC. 20224, Fax (202) 622-5089, Internet Roger.Layman@tigta.treas.gov.

SUPPLEMENTARY INFORMATION: Title: Confirmation Letter 002 (Lien).

OMB Number: 1591-0002.

Abstract: Using a confirmation letter, TIGTA will request information from taxpayers to determine the accuracy of IRS records. Confirmation letters will be sent to taxpayers to verify that they were notified of lien action as required by law. Use of the confirmation letters satisfies General Accounting Office auditing standards for obtaining sufficient, competent, and relevant evidence to afford a reasonable basis for the auditors' judgements and conclusions.

Current Action: There are no changes being made to Confirmation Letter 002, Lien at this time.

Type of Review: Extension of a currently approved collection.

Affected Public: Individuals and businesses.

Estimated Number of Respondents: 120.

Estimated Time for Response: 15 minutes.

Estimated Total Annual Burden Hours: 30.

Request for Comments: Comments submitted in response to this notice will be summarized and/or included in the request for OMB approval. All comments will become a matter of public record. Comments are invited on: (a) Whether the collection of information is necessary for the proper performance of the functions of the agency, including whether the information shall have a practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

The following paragraphs apply to all of the collections of information covered by this notice.

The agency may not conduct or sponsor, and a person is not required to response to, a collection of information unless the collection of information displays a valid OMB control number. Books or records relating to a collection of information must be retained as long as their contents may become material in the administration of any internal revenue law.

Generally, tax returns and tax return information are confidential as required by 26 U.S.C. 6103.

Dated: February 9, 2000.
Margaret E. Begg,
Director, Office of Management and Policy, Treasury Inspector General for Tax Administration, Office of Audit.

[FR Doc. 00-9028 Filed 4-11-00; 8:45 am]

BILLING CODE 4810-25-U